ENVIRONMENTAL PROTECTION AGENCY

40 CFR Part 52

[IN135-2; FRL-7052-6]

Approval and Promulgation of Implementation Plans; Indiana

AGENCY: Environmental Protection Agency (EPA).

ACTION: Final rule.

SUMMARY: On June 7, 2001, the EPA proposed to approve a November 15, 2000, State Implementation Plan (SIP) revision request which tightens Volatile Organic Compound (VOC) regulations for cold cleaning degreasing operations in Clark, Floyd, Lake and Porter Counties in Indiana, which are nonattainment for ozone. VOC combines with oxides of nitrogen in the atmosphere to form ground-level ozone, commonly known as smog. Exposure to ozone is associated with a wide variety of human health effects, agricultural crop loss, and damage to forests and ecosystems. The State of Indiana has included the tightened cold cleaning degreasing regulations in its 2002, 2005 and 2007 Rate-Of-Progress (ROP) Plans and its 2007 attainment demonstration for Lake and Porter Counties. Indiana expects that the control measures specified in this SIP revision will reduce VOC emissions in Clark, Floyd, Lake and Porter Counties. EPA did not receive any public comments in response to its proposed approval. We are approving Indiana's cold cleaning degreasing rule.

DATES: This final rule is effective October 15, 2001.

ADDRESSES: Copies of this SIP revision request are available for public inspection during normal business hours at the following address: U.S. Environmental Protection Agency, Region 5, Air and Radiation Division, 77 West Jackson Boulevard, Chicago, Illinois 60604. (It is recommended that you telephone Steven Rosenthal at (312) 886-6052 before visiting the Region 5 Office.)

FOR FURTHER INFORMATION CONTACT: Steven Rosenthal, Air Programs Branch (AR-18J), U.S. Environmental Protection Agency, Region 5, 77 West Jackson Boulevard, Chicago, Illinois 60604, Telephone: (312)886-6052, E-Mail: rosenthal.steven@epa.gov.

SUPPLEMENTARY INFORMATION: Throughout this document, the terms “you” and “me” refer to the reader of this final rule and to sources subject to the State rule, and the terms “we,” “us,” or “our” refer to the EPA.

Table of Contents

I. Background

A. What is a State Implementation Plan (SIP)?

B. What is the federal approval process for a SIP?

C. What does federal approval of a state regulation mean to me?

D. What is the purpose of this cold cleaning degreasing rule?

E. What are the key milestone dates for this rule?

II. Evaluation of the Rule

A. What are the basic components of the State's rule?

B. Is this rule approvable?

III. Proposed Action

A. What action did EPA propose on June 7, 2001?

IV. Public Comments

A. Did EPA receive public comments on the proposed rule?

V. Final Action

A. What action is EPA taking?

VI. Administrative Requirements

I. Background

A. What Is a State Implementation Plan (SIP)?

Section 110 of the Clean Air Act (Act or CAA) requires states to develop air pollution control regulations and strategies to ensure that state air quality meets the national ambient air quality standards established by the EPA. Each state must submit the regulations and emission control strategies to the EPA for approval and promulgation into the federally enforceable SIP.

Each federally approved SIP protects air quality primarily by addressing air pollution at its points of origin. The SIPs can be and generally are extensive, containing many state regulations or other enforceable documents and supporting information, such as emission inventories, monitoring documentation, and modeling (attainment) demonstrations.

B. What Is the Federal Approval Process for a SIP?

In order for state regulations to be incorporated into the federally enforceable SIP, states must formally adopt the regulations and emission control strategies consistent with state and federal requirements. This process generally includes public notice, public hearings, public comment periods, and formal adoption by state-authorized rulemaking bodies.

Once a state has adopted a rule, regulation, or emissions control strategy it submits it to us for inclusion into the SIP. We must provide public notice and seek additional public comment regarding the proposed federal action on the state submission. If we receive adverse comments we address them prior to any final federal action (we generally address them in a final rulemaking action).

The EPA incorporates into the federally approved SIP all state regulations and supporting information it has approved under section 110 of the Act. Records of such SIP actions are maintained in the Code of Federal Regulations (CFR) at Title 40, Part 52, titled “Approval and Promulgation of Implementation Plans.” The actual state regulations the EPA has approved are not reproduced in their entirety in the CFR, but are “incorporated by reference,” which means that EPA has approved a given state regulation (or rule) with a specific effective date.

C. What Does Federal Approval of a State Regulation Mean to Me?

Enforcement of a state regulation before and after it is incorporated into a federally approved SIP is primarily a state responsibility. After the regulation is federally approved, however, the CAA authorizes the EPA to take enforcement actions against violators. The CAA also offers citizens legal recourse to address violations, as provided in section 304 of the Act.

D. What Is the Purpose of This Cold Cleaning Degreasing Rule?

Section 182(c)(2)(B) of the Act requires any serious and above ozone nonattainment area to achieve post-1996 ROP reductions of 3 percent of VOC 1990 baseline emissions per year, averaged over each consecutive 3-year period, until the area has achieved attainment of the 1-hour ozone National Ambient Air Quality Standard. In Indiana, Lake and Porter Counties (Northwest Indiana nonattainment area) are classified as “severe” nonattainment for the 1-hour ozone standard. As such, this area is subject to the ROP requirement.

The Act specifies under section 182(b)(1)(C) that emission reductions claimed under ROP plans must be achieved through the implementation of control measures through revisions to the SIP, the promulgation of federal rules, or the issuance of permits under Title V of the Act. The state may not include as part of its ROP reduction control measures implemented before November 15, 1990.

Indiana has submitted tightened cold cleaning degreasing rules for the control of VOC as a revision to the SIP for the purpose of meeting ROP requirements for the Northwest Indiana ozone nonattainment area and of reducing VOC emissions in Clark and Floyd counties. Cold cleaning degreasing is used to remove grease and oil from metal parts.

E. What Are the Key Milestone Dates for This Rule?

Indiana held a public hearing on the tightened rules on February 4, 1998, in Indianapolis, Indiana. The Indiana Air Pollution Control Board finally adopted the rules on November 4, 1998. The rule revisions became effective May 27, 1999, and were formally submitted to EPA on November 15, 2000, as a revision to the Indiana SIP for ozone.

The November 15, 2000, submittal includes amendments to 326 IAC 8-3-1 (Applicability) and 326 IAC 8-3-8 (Material Requirements for Cold Cleaning Degreasers).

II. Evaluation of the Rule

A. What Are the Basic Components of the State's Rule?

Indiana originally implemented cold cleaning degreasing rules, which are contained in 326 IAC 8-3, as part of its Reasonably Available Control Technology (RACT) requirements for VOC control. The November 15, 2000, SIP revision submittal amends section 326 IAC 8-3-1 to specify the applicability of this rule to degreasing operations in Clark, Floyd, Lake and Porter Counties. It also adds section 326 IAC 8-3-8, material requirements for cold cleaning degreasers, which tightens requirements for operators of cold cleaning degreasers and adds new requirements for sellers of solvent for use in cold cleaning degreasing operations. The rules are more stringent because a requirement has been added limiting the vapor pressure of the cleaning solvents to 1.0 millimeters of mercury (mm Hg), which is lower than the vapor pressure of cleaning solvents that are typically used. Lowering the vapor pressure reduces the amount of VOC emissions generated from this degreasing operation.

As previously discussed, this SIP revision submittal is required by the Act to the extent that Indiana submitted the rule to meet its ROP requirements. The EPA addressed what emission reductions this SIP revision is expected to achieve for purposes of ROP in its August 3, 2001, proposed approval of Indiana's post-1999 ROP plan for Northwest Indiana.

To determine whether the Indiana submittal meets the requirements for an approvable SIP revision, the EPA reviewed the rules for their consistency with section 110 and part D of the Act. A discussion of the rules and EPA's evaluation follows.

Material Requirements

Section 326 IAC 8-3-8 has been added to limit the vapor pressure of solvent used or sold for use in cold cleaning degreasing operations in Clark, Floyd, Lake and Porter Counties. Beginning November 1, 1999, the vapor pressure limit is 2.0 mm Hg, or 0.038 pounds per square inch (psi) measured at 20 degrees Celsius (C) (68 degrees Fahrenheit (F)). On May 1, 2001, the vapor pressure limit is tightened to 1.0 mm Hg (0.019 psi) measured at 20 degrees C (68 degrees F).

Exemptions

The supplier sale requirements in Section 326 IAC 8-3-8(c) do not apply to the sale of 5 gallons or less of solvents to an individual or business during any 7 consecutive days. This cutoff level is only expected to exempt a very small amount of the total solvent sold.

Section 326 IAC 8-3-8(a) exempts the cleaning of electronic components from the vapor pressure limits under section 326 IAC 8-3-8(c). Indiana has defined “electronic components” under section 326 IAC 8-3-8(b) as all components of an electronic assembly, including, but not limited to, circuit board assemblies, printed wire assemblies, printed circuit boards, soldered joints, ground wires, bus bars, and any other associated electronic component manufacturing equipment. Indiana added this exemption because solvents limited to 1.0 mmHg vapor pressure do not adequately clean certain types of electronic equipment.

Recordkeeping

Section 326 IAC 8-3-8(d) requires subject solvent suppliers and users to maintain documents which indicate the solvent's vapor pressure at the prescribed temperature. The sellers of cold cleaning solvents to users must keep records indicating the name and address of the solvent purchaser, the date of purchase, the type of solvent purchased, the unit volume of the solvent, the total volume purchased, and the vapor pressure of the solvent purchased measured in mmHg at 20 degrees C (68 degrees F). Solvent users must maintain records for each solvent purchase indicating the name and address of the solvent supplier, the date of the solvent purchase, the type of solvent purchased, and the vapor pressure of solvent measured in mmHg at 20 degrees C (68 degrees F). These records must be kept on-site for 3 years and be reasonably accessible for an additional 2 years.

As discussed above, these recordkeeping provisions require that both the sellers and users of the cleaning solvents keep records of the vapor pressure. Material Safety Data Sheets, which are required by Occupational Health and Safety regulations (20 CFR 1918), must specify the vapor pressure of the solvent (this Occupational Health and Safety requirement affects but is not directly referenced by Indiana's rule). In its response to a comment from the DeRolf Environmental Consulting Agency, Inc. on recordkeeping, Indiana stated (in the September 1, 1997, Indiana Register): “To fulfill the recordkeeping requirements of this rule the user of a cold cleaning degreaser would need to maintain a Material Safety Data Sheet and a sales receipt.” These record requirements provide a sufficient basis to enforce the applicable rules.

B. Is This Rule Approvable?

This rule change requires the use of cleaning solvents with a lower vapor pressure than what is typically used. This makes the rule more stringent, because the lower the vapor pressure the less VOC emissions are generated. These rule revisions are, therefore, approvable.

III. Proposed Action

A. What Action Did EPA Propose on June 7, 2001?

The EPA proposed to approve Indiana's tightened cold cleaning degreasing rules for Clark, Floyd, Lake and Porter Counties.

IV. Public Comments

A. Did EPA Receive Public Comments on the Proposed Rule?

The EPA did not receive any public comments in response to the proposed rule.

V. Final Action

A. What Action Is EPA Taking?

We did not receive any public comments in response to our proposed approval. We are approving the incorporation of Indiana's tightened cold cleaning degreasing rule into the Indiana SIP. The specific provisions we are approving consist of amendments to 326 IAC 8-3-1 and the addition of 326 IAC 8-3-8. These rules were finally adopted by the State on November 4, 1998, took effect on May 27, 1999, and were published in the Indiana Register on June 1, 1999 (22 IR 2854).

VI. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective October 15, 2001.

Under section 307(b)(1) of the Clean Air Act, petitions for judicial review of this action must be filed in the United States Court of Appeals for the appropriate circuit by November 13, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Volatile organic compounds, Ozone.

Dated: August 28, 2001.
Norman Niedergang,
Acting Regional Administrator, Region 5.

For the reasons stated in the preamble part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(143) to read as follows:

§ 52.770 Identification of plan.

* * * * *

(c)* * *

(143) On November 15, 2000, the State submitted rules to reduce volatile organic compound emissions from cold cleaning degreasing.

(i) Incorporation by reference. 326 Indiana Administrative Code 8-3: Organic Solvent Degreasing Operations, Section 1, Applicability, and Section 8, Material Requirements for Cold Cleaning Degreasers. Final adoption by the Indiana Air Pollution Control Board on November 4, 1998. Filed with the Secretary of State on April 27, 1999. Effective May 27, 1999. Published at Indiana Register, Volume 22, Number 9, June 1, 1999.

[FR Doc. 01-22995 Filed 9-13-01; 8:45 am]

BILLING CODE 6560-50-P